DEPARTMENT OF DEFENSE

Department of the Navy

Meeting of the Chief of Naval Operations (CNO) Executive Panel

AGENCY: Department of the Navy, DOD.

ACTION: Notice of closed meeting.

SUMMARY: The CNO Executive Panel will discuss multiple topics and report on the findings and recommendations of the Global Governance and China Subcommittees to the Chief of Naval Operations. The meeting will also consist of discussions of Naval Education, command and control capabilities and organization, force structure, maritime capabilities and capacity, and requirements.

DATES: The meeting will be held on May 2, 2006, from 8:30 a.m. to 4 p.m., and May 3, 2006, from 8:30 a.m. to 1 p.m.

ADDRESSES: The meeting will be held in the Center for Naval Analysis Corporation (CNAC) boardroom at 4825 Mark Center Drive, Alexandria, VA 22311-1846.

FOR FURTHER INFORMATION CONTACT: LCDR Chris Stopyra, Chief of Naval Operations Executive Panel, 4825 Mark Center Drive, Alexandria, VA 22311, 703-681-4909.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Dated: April 14, 2006.
S.K. Melancon,
Paralegal Specialist, Office of the Judge Advocate General, Alternate Federal Register Liaison Officer.

[FR Doc. E6-5925 Filed 4-19-06; 8:45 am]

BILLING CODE 3810-FF-P